DEPARTMENT OF HEALTH AND HUMAN SERVICES

Administration for Children and Families

Proposed Information Collection Activity; Comment Request Proposed Projects

Title: LIHEAP Quarterly Allocation Estimates.

OMB No.: 0970-0037.

Description: The Low Income Home Energy Assistance Program (LIHEAP) Quarterly Allocation Estimates Form-535 is a one-page form that is sent to 50 State grantees and the District of Columbia. It is also sent to tribal grantees that receive over $1 million annually and that directly administer the LIHEAP Program. Grantees are asked to complete and submit the form in the 4th quarter of every fiscal year. The data collected on the form are the grantee's estimates of obligations that they expect to make each quarter during the upcoming fiscal year. This is the only method used to request anticipate distribution of the grantee's LIHEAP funds for the program year. The information is used to disburse LIHEAP funds in accordance with grantee needs and to develop OMB apportionment requests.

Respondents: State, local or tribal Government.

Annual Burden Estimates
Instrument | Number of respondents | Number of responses per respondent | Average burden hours per response | Total burden hours
Form ACF-535 | 55 | 1 | .25 | 13.75

Estimated Total Annual Burden Hours: 13.75.

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. E-mail: grjohnson@acf.hhs.gov. All requests should be identified by the title of the information collection.

The Department specifically requests comments on: (a) whether the proposed collection of information is necessary for the proper performance of the functions of the agency, including whether the information shall have practical utility; (b) the accuracy of the agency's estimate of the burden of the proposed collection information; (c) the quality, utility, and clarity of the information to be collected; and (d) ways to minimize the burden of the collection of information on respondents, including through the use of automated collection techniques or other forms of information technology. Consideration will be given to comments and suggestions submitted within 60 days of this publication.

Dated: January 18, 2005.
Robert Sargis,
Reports Clearance Officer.

[FR Doc. 05-1398 Filed 1-25-05; 8:45 am]

BILLING CODE 4184-01-M